DEPARTMENT OF HOMELAND SECURITY

Citizenship and Immigration Services Bureau

Agency Information Collection Activities: Comments Request

ACTION: Request OMB emergency approval; application for status as temporary resident under section 245A of the Immigration and Nationality Act (Form I-687).

The Department of Homeland Security (DHS) and the U.S. Citizenship and Immigration Services (CIS) has submitted an emergency information collection request (ICR) utilizing emergency review procedures, to the Office of Management and Budget (OMB) for review and clearance in accordance with section 1320.13 (a)(1)(ii) and (a)(2)(iii) of the Paperwork Reduction Act of 1995. The DHS has determined that it cannot reasonably comply with the normal clearance procedures under this part because normal clearance procedures are reasonably likely to prevent or disrupt the collection of information. Therefor, immediate OMB approval has been requested. If granted, the emergency approval is only valid for 180 days. All comments and/or questions pertaining to this pending request for emergency approval must be directed to OMB, Office of Information and Regulatory Affairs, Attention: Ms. Karen Lee, Department of Homeland Security Desk Officer, 725-17th Street, NW., Suite 10235, Washington, DC 20503; 202-395-5806.

During the first 60 days of this same period, a regular review of this information collection is also being undertaken. During the regular period, the DHS requests written comments and suggestions from the public and affected agencies concerning this the information collection. Comments are encouraged and will be accepted until May 24, 2004. During 60-day regular review, all comments and suggestions, or questions regarding additional information, to include obtaining a copy of the information collection instrument with instructions, should be directed to Mr. Richard A. Sloan, 202-514-3291, Director, Regulations and Forms Services Division, Department of Homeland Security, Room 4034, 425 I Street, NW., Washington, DC 20536. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology e.g., permitting electronic submission of responses.

Overview of this information collection:

(1) Type of Information Collection: Reinstatement with changes to a previously approved collection for which approval has expired.

(2) Title of the Form/Collection: Application for Status as Temporary Resident under Section 245A of the Immigration and Nationality Act.

(3) Agency Form Number, if Any, and the Applicable Component of the Department of Homeland Security Sponsoring the Collection: Form I-687. Bureau of Citizenship and Immigration Services.

(4) Affected Public Who Will be Asked or Required to Respond, as Well as a Brief Abstract: Primary: Individuals and households. The collection of information on Form I-687 is required to verify the applicant's eligibility for temporary status, and if the applicant is deemed eligible, to grant him or her the benefit sought.

(5) An Estimate of the Total Number of Respondents and the Amount of Time Estimated for an Average Respondent to Respond: 100,000 responses at 1 hour and 10 minutes (1 .16 hours) per response.

(6) An Estimate of the Total Public Burden (in Hours) Associated with the Collection: 116,000 annual burden hours.

If additional information is required contact: Mr. Steve Cooper, PRA Clearance Officer, Department of Homeland Security, Office of Chief Information Officer, Regional Office Building 3, 7th and D Streets, SW., Suite 4636-26, Washington, DC 20202.

Dated: March 18, 2004.
Richard A. Sloan,
Department Clearance Officer, Department of Homeland Security, Citizenship and Immigration Services.

[FR Doc. 04-6566 Filed 3-23-04; 8:45 am]

BILLING CODE 4410-10-M